DEPARTMENT OF LABOR

Employment and Training Administration

[TA-W-38,413]

Binns Machinery Products, Cincinnati, Ohio; Notice of Termination of Investigation

Pursuant to Section 221 of the Trade Act of 1974, an investigation was initiated on December 11, 2000, in response to a worker petition which was filed by the company on behalf of its workers at Binns Machinery Products, Cincinnati, Ohio. The workers produce heavy duty lathes used in steelmaking.

The petitioner has requested that the petition be withdrawn. Consequently further investigation in this case would serve no purpose, and the investigation has been terminated.

Signed at Washington, DC, this 5th day of January, 2001.
Linda G. Poole,
Certifying Officer, Division of Trade Adjustment Assistance.

[FR Doc. 01-1894 Filed 1-22-01; 8:45 am]

BILLING CODE 4510-30-M